DEPARTMENT OF VETERANS AFFAIRS

[OMB Control No. 2900-0569]

Proposed Information Collection Activity: Proposed Collection; Comment Request

AGENCY: Veterans Benefits Administration, Department of Veterans Affairs.

ACTION: Notice.

SUMMARY: The Veterans Benefits Administration (VBA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on requirements relating to customer satisfaction surveys.

DATES: Written comments and recommendations on the proposed collection of information should be received on or before January 2, 2007.

ADDRESSES: Submit written comments on the collection of information through http://www.Regulations.gov: or to Nancy Kessinger, Veterans Benefits Administration (20M35), Department of Veterans Affairs, 810 Vermont Avenue, NW., Washington, DC 20420 or e-mail: nancy.kessinger@va.gov. Please refer to “OMB Control No. 2900-0569” in any correspondence. During the comment period, comments may be viewed online through the Federal Docket Management System (FDMS) at http://www.Regulations.gov.

FOR FURTHER INFORMATION CONTACT: Nancy Kessinger at (202) 273-7079 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: VA Voluntary Customer Surveys to Implement E.O. 12862.

OMB Control Number: 2900-0569.

Type of Review: Extension of a currently approved collection.

Abstract: VBA administers integrated programs of benefits and services, established by law for veterans and their survivors, and service personnel. Executive Order 12862, Setting Customer Service Standards, requires Federal agencies and departments to identify and survey its customers to determine the kind and quality of services they want and their level of satisfaction with existing service. Customer satisfaction surveys are used to gauge customer perceptions of VA services as well as customer expectations and desires.

Affected Public: Individuals or households and businesses or other for-profits.

Listing of Survey Activities
Year | Number of respondents | Estimated annual burden | Frequency of response
Survey of Veterans' Satisfaction with the VA Compensation and Pension Claims Process—20 minutes
2007 | 24,000 | 8,000 hours | One-time.
2008 | 24,000 | 8,000 hours | One-time.
2009 | 24,000 | 8,000 hours | One-time.
Survey of Veterans'/Dependents' and Servicemembers' Satisfaction with the VA Education Claims Process—20 minutes
2007 | 2,968 | 989 hours | One-time.
2008 | 2,968 | 989 hours | One-time.
2009 | 2,968 | 989 hours | One-time.
Survey of Educational Institution Certifying Officials—20 minutes
2007 | 1,000 | 333 hours | One-time.
2008 | 1,000 | 333 hours | One-time.
2009 | 1,000 | 333 hours | One-time.
Survey of Veterans' Satisfaction with the VA Home Loan Guaranty Process—10 minutes
2007 | 7,560 | 1,260 hours | One-time.
2008 | 7,560 | 1,260 hours | One-time
2009 | 7,560 | 1,260 hours | One-time.
VA Loan Guaranty Lender Satisfaction Survey—20 minutes
2007 | 1,992 | 498 hours | One-time.
2008 | 1,992 | 498 hours | One-time.
2009 | 1,992 | 498 hours | One-time.
VA Survey of Veterans' Satisfaction with the Vocational Rehabilitation & Employment Program—20 minutes
2007 | 3,300 | 1,100 hours | One-time.
2008 | 3,300 | 1,100 hours | One-time.
2009 | 3,300 | 1,100 hours | One-time.
Insurance Customer Surveys—6 minutes
2007 | 2,800 | 280 hours | One-time.
2008 | 2,800 | 280 hours | One-time.
2009 | 2,800 | 280 hours | One-time.
Outreach Surveys—15 minutes
2007 | 4,500 | 1,125 | One-time.
2008 | 4,500 | 1,125 | One-time.
2009 | 4,500 | 1,125 | One-time.
Undetermined Focus Groups (Targeted population groups are to be decided)—2 hours
2007 | 380 | 760 hours | One-time.
2008 | 380 | 760 hours | One-time.
2009 | 380 | 760 hours | One-time.
Telephone Survey—7 minutes
2007 | 6,400 | 747 hours | One-time.
2008 | 6,400 | 747 hours | One-time.
2009 | 6,400 | 747 hours | One-time.
VA Regional Office-Based Survey Activities Customer Satisfaction Focus Groups—3 hours
2007 | 360 | 1,080 hours | One-time.
2008 | 360 | 1,080 hours | One-time.
2009 | 360 | 1,080 hours | One-time.
VA Regional Office-Specific Service Improvement Initiatives (Comment Card)—5 minutes
2007 | 40,000 | 3,333 hours | One-time.
2008 | 40,000 | 3,333 hours | One-time.
2009 | 40,000 | 3,333 hours | One-time.

Most customer satisfaction surveys will be recurring so that VBA can create ongoing measures of performance and to determine how well the agency meets customer service standards. Each collection of information will consist of the minimum amount of information necessary to determine customer needs and to evaluate VBA's performance.

Anyone may view the results of previously administered surveys on the internet by going to the following VBA surveys Web site: http://www.vba.va.gov/surveys/.

The areas of concern to VBA and its customers may change over time, and it is important to have the ability to evaluate customer concerns quickly. OMB will be requested to grant generic clearance approval for a 3-year period to conduct customer satisfaction surveys, focus groups and to send out comment cards. Participation in the surveys, focus groups, and comment cards will be voluntary and the generic clearance will not be used to collect information required to obtain or maintain eligibility for a VA program or benefit. In order to maximize the voluntary response rates, the information collection will be designed to make participation convenient, simple, and free of unnecessary barriers. Baseline data obtained through these information collections will be used to improve customer service standards. VBA will consult with OMB regarding each specific information collection during this approval period.

Dated: October 19, 2006.
By direction of the Secretary.
Denise McLamb,
Program Analyst, Initiative Coordination Service.

[FR Doc. E6-18418 Filed 10-31-06; 8:45 am]

BILLING CODE 8320-01-P